DEPARTMENT OF DEFENSE

Office of the Secretary of Defense

[DoD-2008-OS-0010]

Privacy Act of 1974; System of Records

AGENCY: National Security Agency/Central Security Service.

ACTION: Notice to Add a System of Records.

SUMMARY: The National Security Agency/Central Security Service proposes to add a system of records notice to its existing inventory of record systems subject to the Privacy Act of 1974, (5 U.S.C. 552a), as amended.

DATES: This proposed action would be effective without further notice on March 14, 2008 unless comments are received which result in a contrary determination.

ADDRESSES: Send comments to the National Security Agency/ Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on February 6, 2008, to the House Committee on Oversight and Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 7, 2008.
L.M. Bynum,
Alternative OSD Federal Register Liaison Officer, Department of Defense.

GNSA 24

System name:

NSA/CSS Pre-Publication Review Records.

System location:

National Security Agency/Central Security Service, 9800 Savage Road, Ft. George G. Meade, MD 20755-6000.

Categories of individuals covered by the system:

Current and former NSA/CSS employee, advisor, military assignee, or Agency contractor; other authors obligated to submit writings or oral presentations for pre-publication review; and individuals involved in pre-publication review.

Categories of records in the system:

Individual's full name, home telephone number, address, employment history, and possibly level of Education (type of degree), manuscripts and other writings submitted for pre-publication review, correspondence on pre-publication requests and appeals, and resumes.

Authority for maintenance of the system:

National Security Agency Act of 1959, as amended, 50 U.S.C. 402 note (Pub. L. 86-36), 50 U.S.C 403 (Pub. L. 80-253); 44 U.S.C. 3101; E.O. 12333; E.O. 12958; E.O. 12968; DoD Directive 5100.20, The National Security Agency and the Central Security Service; DoD Directive 5230.09, Clearance of DoD Information for Public Release; DoDI 5230.29, Security and Policy Review of DoD Information for Public Release; and NSA/CSS Policy 1-30, Review of NSA/CSS Information for Public Dissemination.

Purpose(s):

To maintain records relating to the pre-publication review of official NSA/CSS information intended for public dissemination.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal agencies involved in a classification review of information containing National Security Agency as well as other agency and/or government information.

The DoD ‘Blanket Routine Uses’ published at the beginning of the NSA/CSS's compilation of record systems also apply to this record system.

Policies and practices for storing, retrieving, accessing, retaining, and disposing of records in the system:

Storage:

Paper records in file folders and electronic media.

Retrievability:

Individual's name, title of the pre-publication document, and the case number assigned to the FOIA request.

Safeguards:

Secured by a series of guarded pedestrian gates and checkpoints. Access to facilities is limited to security-cleared personnel and escorted visitors only. With the facilities themselves, access to paper and computer printouts are controlled by limited-access facilities and lockable containers. Access to electronic means is controlled by computer password protection.

Retention and disposal:

Records are permanently retained and will be transferred to the NSA/CSS Archives when no longer needed for operations.

System manager(s) and address:

Director of Policy, National Security Agency/Central Security Service, 9800 Savage Road, Suite 6248, Ft. George G. Meade, MD 20755-6248.

Notification procedure:

Individuals seeking to determine if records about themselves are contained in this record system should address written inquiries to the Director of Policy, National Security Agency/Central Security Service, 9800 Savage Road, Suite 6248, Ft. George G. Meade, MD 20755-6248.

Written inquires should include individual's full name, address, and telephone number.

Record access procedures:

Individuals seeking access to records about themselves contained in this record system should address written inquiries to the Deputy Director of Policy, National Security Agency/Central Security Service, 9800 Savage Road, Suite 6248, Ft. George G. Meade, MD 20755-6248.

Written inquires should include individual's full name, address, and telephone number.

Contesting record procedures:

The NSA/CSS rules for contesting contents and appealing initial determinations are published at 32 CFR part 322 or may be obtained by written request addressed to the Chief, Office of Policy, National Security Agency/Central Security Service, Ft. George G. Meade, MD 20755-6000.

Record source categories:

Individuals and other NSA personnel involved in the publications review process.

Exemptions claimed for the system:

None.

[FR Doc. E8-2755 Filed 2-12-08; 8:45 am]

BILLING CODE 5001-06-P